DEPARTMENT OF THE INTERIOR

Fish and Wildlife Service

Letters of Authorization To Take Marine Mammals

AGENCY: Fish and Wildlife Service, Interior.

ACTION: Notice of issuance of Letters of Authorization to take marine mammals incidental to oil and gas industry activities.

SUMMARY: In accordance with section 101(a)(5)(A) of the Marine Mammal Protection Act of 1972, as amended, and the U.S. Fish and Wildlife Service implementing regulations [50 CFR 18.27(f)(3)], notice is hereby given that Letters of Authorization to take polar bears and Pacific walrus incidental to oil and gas industry exploration activities have been issued to the following company:

Company | Activity | Location | Date issued
BP Exploration (Alaska) | Exploration | Liberty | April 30, 2001.
WesternGeco | Exploration | Beaufort Sea | May 4, 2001.

Contact: Mr. John W. Bridges at the U.S. Fish and Wildlife Service, Marine Mammals Management Office, 1011 East Tudor Road, Anchorage, Alaska 99503, (800) 362-5148 or (907) 786-3810.

SUPPLEMENTARY INFORMATION: The Letters of Authorization are issued in accordance with U.S. Fish and Wildlife Service Federal Rules and Regulations “Marine Mammals; Incidental Take During Specified Activities (65 FR 16828; March 30, 2000).”

Dated: May 16, 2001.
David B. Allen,
Regional Director.

[FR Doc. 01-13592 Filed 5-30-01; 8:45 am]

BILLING CODE 4310-55-M